DEPARTMENT OF HOUSING AND URBAN DEVELOPMENT

[Docket No. FR-5514-N-02]

Request for Qualification (RFQ) for the Fellowship Placement Pilot Program

AGENCY: Office of the Assistant Secretary for Policy Development and Research, HUD.

ACTION: Notice.

Funding Opportunity Title: Fellowship Placement Program.

Eligible Applicants: A single third party, or a partnership of third parties as defined under section I.B. Definitions of this notice.

Announcement Type: Initial Announcement.

OMB Control Number: The OMB control number is 2528-0272.

Catalog of Federal Domestic Assistance Number (CFDA): The CFDA number for this announcement is 14.529.

SUMMARY: This notice announces HUD's proposal to conduct a Fellowship Placement Pilot (fellowship program). The fellowship program is designed to assist local governments rebuild their capacity by training and placing highly motivated early to midcareer professionals into two-year fellowships to work in a mayor's office or other offices of local government agencies.

HUD will conduct the fellowship program in six pilot cities. HUD has conducted an extensive evaluation process and have selected the following six pilot cities: Chester, PA; Cleveland, OH; Detroit, MI; Fresno, CA; Memphis, TN; and New Orleans, LA.

Through a national competitive process, up to 30 fellows will be recruited for the initial class, where each pilot city may receive up to five fellows. Fellows will receive stipends and will be mentored by staff located in each pilot city.

To administer the fellowship program, HUD will select an eligible third party as defined in section II.B. Definitions of this notice. Interested third parties are invited to submit full applications to be reviewed by HUD for consideration.

While there is no match requirement for the fellowship program, HUD recognizes that the scope of work required of the program may exceed the funds that are available for this grant. Therefore, HUD expects that the selected third party will secure additional funding support from other philanthropic organizations to fulfill the scope of work for the fellowship program. (Please see section II.C.1 Leveraging for more information.)

Funding for the fellowship program was made available to HUD through the Rockefeller Foundation, which HUD is statutorily authorized to accept.

DATES: Request for Qualification Due Date: Applications are due no later than September 22, 2011, 11:59 p.m., Eastern Standard Time. If applying as a partnership, only the lead organization needs to submit an application for the partnership. HUD will review the Request for Qualification (RFQ) received from third parties and anticipates that it will select a grantee no later than 30 days after September 22, 2011, when the original applications were submitted.

ADDRESSES: Applicants seeking to apply as the third party to manage the fellowship program are directed to submit their application, responses and relevant documents (see Appendix B for checklist) to FellowshipPlacementProgram@hud.gov by September 22, 2011.

Applicants may download the required application documents and forms SF424, SF424sup and SF-LL at: http://www.huduser.org/portal/fellowship/placepilot.html.

FOR FURTHER INFORMATION CONTACT: Kheng Mei Tan, Office of Policy Development and Research, Department of Housing and Urban Development, 451 7th Street, SW., Washington, DC 20410; telephone number 202-402-4986 (this is not a toll-free number). Persons with hearing or speech impairments may access this number through TTY by calling the toll-free Federal Relay Service at 800-877-8339.

SUPPLEMENTARY INFORMATION:

I. Background

In 2010, senior leadership from the White House, HUD, and other federal agencies have assessed ways to enhance technical assistance to help some of the nation's most economically distressed cities so that they may begin to stabilize and rebuild their local economies. The result of these discussion led to the creation of the White House's Strong Cities, Strong Communities (SC2) initiative, a new and customized pilot initiative to strengthen local capacity and spark economic growth in local communities.

These cities, formerly key economic engines of regional and national prosperity have in the past several decades, undergone high poverty and unemployment rates, severe residential and commercial vacancies, long-term population loss, and have struggled to return to a place of economic productivity. The long term economic decline of these cities have constrained local resources, and precluded them from attracting, hiring and maintaining sufficient staff to support key operations and execute revitalization strategies. Moreover, rising government costs, declining revenue streams, and the requirement that state and local governments maintain a balanced budget continue to further these economic challenges.

However, despite these significant challenges, these cities possess tremendous physical, commercial, and public assets that can be used to revive their local and regional economies. In an effort to ensure the economic health and well being of regional and national economies, these cities must be given the best opportunity possible to regain strength through leveraging their key assets and extensively partner with public and private sectors. In addition, the revitalization of these cities can be assisted by providing them with additional highly skilled staff with wide-ranging technical expertise in fields that include urban planning, workforce training, economic development, and human capital strategies.

The fellowship program is one of four strategies of the White House SC2 initiative that is part of a broader and new approach to making the Federal investment model more flexible, targeted, tailored, and holistic in building local capacity in cities and regions facing long-term challenges. With this new method, these cities can more effectively build partnerships with businesses, non-profits, and other key economic players that will help attract critical private investment to create jobs, promote economic growth, and enhance community prosperity. As a result, this targeted assistance will help put these places on a path towards creating a customized and specific plan for long-term economic revitalization.

II. Fellowship Placement Pilot Program

A. Fellowship Placement Pilot Program Overview

As described in the Summary, the fellowship program will be a competitive program that provides funding for early to mid-career professionals to work for two year terms in local government positions to supplement existing local capacity. HUD envisions that through a national competitive process, up to 30 fellows who are strongly committed to public service, will be selected for the initial fellowship class. Fellows will be deployed to one of the six pilot cities that have been selected for the SC2 initiative. In their pilot cities, they will support and assist local governments in their economic revitalization efforts. Fellows will receive stipends and will be mentored by staff located in each pilot city. The objectives of fellows assigned to selected pilot cities will be to:

1. Take on high-level responsibilities and be immersed in the core operations of the host city;

2. Engage in peer-to-peer learning opportunities and become active leaders in their host city; and

3. Be intensely engaged and committed to the redevelopment of the city so that they remain working in the city after the end of the program.

HUD will conduct the fellowship program in the following pilot cities: Chester, PA; Cleveland, OH; Detroit, MI; Fresno, CA; Memphis, TN; and New Orleans, LA. Each pilot city may receive up to five fellows.

HUD has conducted a comprehensive city assessment for each pilot city to identify their key challenges and areas of capacity need. The city assessment provides useful information to help HUD and the fellowship program determine how fellows can be used to support each pilot city.

Funding for the fellowship program is provided through a donation of $2.5 million by the Rockefeller Foundation, a private philanthropic organization, which HUD is authorized to accept under section 7(k)(1) of the Department of Housing and Urban Development Act (42 U.S.C. 3535(k)(1)). The donation was specifically provided to HUD to develop, manage, and implement a national fellowship program to enhance the capacity of some of the nation's most economically distressed cities. In addition, section 3(b) of the Department of Housing and Urban Development Act (42 U.S.C. 3532(b)) authorizes the Secretary of HUD to “exercise leadership at the direction of the President in coordinating Federal activities affecting housing and urban development” as well as to “provide technical assistance and information * * * to aid state, county, town, village, or other local governments in developing solutions to community and metropolitan development problems.”

B. Fellowship Placement Pilot Program Administrator

HUD is seeking applications through this notice from eligible third parties (Administrator) to administer the fellowship program. The selected Administrator will be responsible for two major activities of the fellowship program:

1. Manage and administer the fellowship program at the national and local level (Activity 1); and

2. Develop training curriculum and train fellows for the program (Activity 2).

To be eligible for selection, the Administrator must be able to carry out both activities.

The selected Administrator will be a single third party or a partnership of third parties, as the term “third party” is defined below, along with other key definitions.

Definitions: The following terms shall have the meaning indicated below:

Administrator: The term “administrator” means a third party or partnership of third parties that will be responsible for all tasks associated with activities 1 and 2 described in this Expression of Interest.

Third-party: The term “third party” means an educational institution, private and for-profit entity, or private or public nonprofit with a 501(c)(3) status.

Partnership: The term “partnership” means any combination or grouping of two or more third-parties as previously defined. Examples of possible partnerships among third parties may include, but is not limited to, a partnership between:

• A national or regional leadership institute and local universities or other local organization with relevant experience; or

• A volunteer or community driven organization and college institution. Further, to differentiate among the tasks associated with Activity 1 and Activity 2, HUD will use the following terms:

Activity 1

Local organization: The term “local organization” will refer to those third parties that will be tasked to work in each of the pilot cities. In addition, HUD will expand this definition of “local organization” to include an individual(s) who is a qualified independent consultant or professional expert that can effectively manage the work at the local level.

Activity 2

Training Organization: The term “training organization” will refer to the third parties that will assume all tasks associated with training as described in section II.C.2 of this Expression of Interest.

Period of expenditure of fellowship program funds: The $2.5 million to be made available for the fellowship program is to be used by the Administrator over the course of 32 months from the date that funding is made available. HUD Headquarters will monitor the Administrator to ensure that the funds are efficiently utilized over the 32 month period.

Cooperative agreement: Upon selection of an Administrator, HUD intends to execute a cooperative agreement with the Administrator that delineates the objectives, roles and responsibilities for HUD and the Administrator. HUD recognizes that the success of the fellowship program will require flexibility and adaptability in design and implementation. Therefore, the cooperative agreement will allow HUD to work closely with the Administrator to help fine tune activities as needed to ensure that activities are implemented in a manner that is consistent with the objectives of the fellowship program. HUD anticipates that it will have significant involvement in all aspects of the fellowship program's planning, delivery, and follow-up.

C. Primary Tasks of the Administrator

HUD's proposal for the fellowship program involves two major activities for the Administrator to carry out, as noted above. The following provides more details on these activities.

1. Activity 1: Manage and Implement the Fellowship Program at the National and Local Level

Coordination with selected pilot cities: HUD recognizes that the fellowship program will require a local presence in each of the pilot cities. Therefore, the Administrator will be required to identify, coordinate and collaborate with a local organization in each of the pilot cities. (Note: In the application, HUD is asking for an outline of a detailed plan that describes how the applicant will identify, select and coordinate with local organizations.)

HUD expects the relationship between the Administrator and local organizations to be sufficiently flexible to ensure that the program functions smoothly and successfully. The Administrator will be responsible for the following six tasks:

• Managing the overall operations of the fellowship program which includes paying fellow stipends, recruiting and selecting fellows, and coordinating with local organizations in each pilot city.

• Working with the city to ensure that fellows are well integrated with their pilot city and working on high-level, strategic projects;

• Helping to coordinate site visits with the training organization;

• Identifying additional training and mentoring opportunities fellows may require as they progress through the program; and

• Tracking and monitoring data to be used for evaluating the success of fellows and the fellowship program.

• Securing additional support from philanthropic organizations to meet the objectives and scope of work in the fellowship program.

Note: Applicants must specify in their application who (the Administrator or local organization) would be responsible for carrying out the five tasks described above.

Payment of fellows: The Administrator will be responsible for paying fellows in the program. HUD plans to set-aside a portion of the $2.5 million to pay fellow stipends. HUD anticipates that fellow stipends will be $60,000 per year. In the best case scenario, the cost of the stipend is shared between the pilot city and the program. HUD is in the process of negotiating with each pilot city to determine the cost share of the stipend.

Recruitment and selection of fellows: The Administrator will be responsible for recruiting and selecting qualified fellows for the program. No HUD or federal employees are eligible to participate in the fellowship program. The Administrator will be primarily responsible for marketing and advertising the program in places such as graduate programs, career listservs and public sector networks. HUD may also assist in advertising the program to increase the number of applicants.

HUD recognizes that selecting the most qualified fellows is a critical element to ensuring the success of the fellowship program. As a result, the Administrator to be selected must have significant expertise in similar selection and recruitment experience, preferably for public service employment. HUD will work with Administrator to ensure that the types of fellows selected meet the needs and objectives of the fellowship program. HUD also has developed general criteria for the types of qualifications anticipated for participation in the program. Please see Appendix A for the list of fellow qualifications.

HUD expects the Administrator to work closely with pilot cities to ensure that the skill sets of fellows recruited reflects the needs of the pilot cities. Before the recruitment process begins, HUD will connect the Administrator to the relevant pilot city officials to facilitate such coordination.

Coordination with local organizations: The Administrator will coordinate their activities with local organizations to ensure that the objectives of the fellowship program are being met. This may include activities such as monitoring the work of the fellows and working with the pilot cities to identify potential projects. HUD does not want to be rigid in defining these roles and responsibilities. Rather, HUD expects the relationship between the Administrator and the local organizations to be flexible enough to ensure that the program operates smoothly and successfully.

Mentorship of fellows: HUD recognizes that mentors will be critical to the success and retention of fellows in the program. HUD does not want to be rigid in defining the roles and responsibility of mentorship. Rather, HUD expects the selected Administrator to be adaptive, responsive and flexible enough to meet the needs of fellows. This would include ensuring that fellows work on challenging and strategic projects and are well-integrated and connected to their pilot city.

Due to the complex nature of the work required of fellows to meet the intricate challenges of pilot cities, HUD anticipates that the roles and responsibilities of fellows will likely change as the program progresses. In addition, HUD does not have specific projects for fellows in mind. However, HUD, at minimum, expects that the work of fellows must be high-level, strategic projects that will help advance the economic goals of a pilot city. As described in section II.A Fellowship Placement Pilot Program Overview, the types of projects that fellows are expected to work on will be informed by the city assessments that HUD has completed for each pilot city. Please also review section D. Pilot Cities, City Assessments for more information on the city assessment process.

Coordinating training activities: HUD expects the selected Administrator will work to identify opportunities for additional training which may include, but are not limited to conferences, workshops, or meetings. In addition, the Administrator will help coordinate site visits throughout the span of the fellowship program.

Evaluation: HUD expects that the selected Administrator will collect data to help HUD evaluate the success of fellows and the program. HUD will provide the Administrator with a basic template to collect qualitative and quantitative information. In addition, HUD welcomes proposals from the Administrator on additional metrics for data collection.

Leveraging: As described in the Summary, HUD will not have a match requirement for the fellowship program. However, HUD recognizes that the scope of work required of the program may exceed the funds that are available for this grant. Therefore, HUD expects that the selected Administrator will secure additional funding support from other philanthropic organizations to fulfill the scope of work for the fellowship program. (Note: Applicants will be required to explain how they plan to identify and secure additional financial support to meet the full scale of the fellowship program in their applications.)

2. Activity 2: Develop Training Curriculum and Train Fellows for the Fellowship Program

HUD expects that fellows selected will likely enter the program with an array of skills and expertise, but notwithstanding skills and expertise, fellows will be expected to undergo orientation and training. The selected Administrator will either serve as the training organization or identify a training organization to assist with training selected fellows. In this discussion of Activity 2, training organization refers to the entity (either the Administrator or another third party) that will be responsible and conduct orientation and training. For this activity, the training organization would be required to complete the following tasks:

a. Develop orientation materials for fellows entering the program;

b. Develop or apply existing training curriculum that will equip fellows with the fundamental knowledge, tools and skills they would need to be successful in the program.

c. Identify the locations of where fellows are to be trained and train fellows; and

d. Coordinate with the national and local intermediaries on additional training fellows may need as they progress through the program, as well as help to coordinate site visits.

Orientation: The training organization will develop the materials and agenda to help orient the new class of fellows. The training organization will administer the orientation training and coordinate activities, guest speakers and attendees with HUD.

Training: The training organization will be responsible for all aspects of training, which includes training fellows and developing the training curriculum for fellows. HUD expects that training courses should be practical in nature, and focus on leadership development and team building. Areas of focus will be wide-ranging in scope and may include, but are not limited to project management; bureaucratic navigation; finance and acquisition; data and monitoring; changing market conditions; urban planning and redevelopment; human and social capital development; and local government finance and budgeting.

While HUD recognizes that the training of fellows will largely be “on-the-job” training, HUD expects that the training courses developed should make every effort to draw on real world experiences in the policies and practices of local government.

Development of local training opportunities: The training organization will be responsible for developing or identifying additional local training opportunities for fellows. Responsibilities for the training organization may include, but are not limited to, coordinating site visits; developing workshops on a specific topic; and identifying and bringing in expert consultants or speakers to educate fellows. While HUD will not require a minimum number of training opportunities or site visits, HUD expects at least one site visit to be in a pilot city. The purpose of site visits is to help increase the knowledge and expertise of fellows in the program.

Leveraging: HUD recognizes that the scope of work required of the fellowship program will exceed the funds that are available for this grant. Therefore, HUD expects that the training organization will secure additional funding support from other philanthropic organizations to fulfill the scope of work for the fellowship program. (Note: Again, applicants will be required to explain how they plan to identify and secure additional financial support to meet the full scale of the fellowship program in their applications.)

3. Reporting Requirements

HUD will require the selected Administrator to report to the Government Technical Representative (GTR) who will be responsible for managing the fellowship program grant at HUD no less often than quarterly, unless otherwise specified in the cooperative agreement. As part of this required report to HUD, the selected Administrator will update the GTR with information on actual outputs and data related to outcomes achieved, and a narrative explanation of any disparity between projected and actual results. HUD will also require the selected Administrator to provide HUD with a final narrative report no more than four months from the end of the grant period.

Indirect costs: Indirect costs, if applicable, are allowable based on an established approved indirect cost rate. Applicants should have on file, and submit to HUD as part of their grant application, a copy of their approved indirect cost rate agreement if they have one. Applicants that are selected for funding but do not have an approved indirect cost rate agreement established by the cognizant federal agency, and who want to charge indirect costs to the grant, will be required to establish a rate. In such cases, HUD will issue an award with a provisional rate and assist applicants with the process of establishing a final rate.

D. Selected Pilot Cities

HUD has announced the pilot cities for the fellowship program. They are Chester, PA; Cleveland, OH; Detroit, MI; Fresno, CA; Memphis, TN; and New Orleans, LA.

City assessments: HUD has conducted a comprehensive city assessment. The purpose of the city assessment is to identify the key challenges and areas of need for each pilot city. In conducting these assessments, HUD has worked closely with city mayors and their staff to examine areas such as staffing resources; internal decision making processes; fiscal and budget capacity; and economic development and housing projects.

The Administrator, in close collaboration with each pilot city, may use the city assessments to identify the types of work and projects for fellows to undertake in the program. (HUD will help connect the Administrator with each pilot city.) By understanding the types of work that may be identified by the pilot city, the Administrator may be better able to recruit and match fellows according to the needs of each pilot city.

HUD's Coordination Role. When an Administrator is selected, HUD will take the lead role in coordinating all key aspects of the program between the Administrator and the pilot cities to ensure the successful implementation of program objectives. HUD's role in coordination would include, but is not limited to:

• Facilitating meetings between the Administrator and the pilot cities;

• Negotiating, where appropriate, fellowship work responsibilities;

• Hosting site visits in pilot city locations.

III. Rating Factor Overview, General Rules and Instructions

HUD will rate the qualifications of an applicant on three rating factors described below. Only applicants (a single third party or a partnership of third parties) that can meet the competencies of both activities 1 and 2 should submit applications. If applying as a partnership, a lead applicant must be named in the application form SF424. The lead applicant also will be responsible for managing the scope of work in the activities applied for by the partnership. Only the lead applicant needs to submit an application, and all relevant forms and documents on behalf of the partnership.

The total number of points possibly awarded for an application is 190 points.

The applicant must answer all questions in this RFQ. HUD suggests that applicants answer and label their responses in the order of which the rating factor questions are asked. Applicants that leave questions unanswered will be determined to have submitted incomplete applications, and their applications will not be considered.

A. Page Limitations and Font Size

Applicant responses to all of the rating factors must be formatted so that the total number of pages submitted are equal to no more than 18 single-sided pages of singlespaced text based on an 8.5 by 11 inch paper, using a standard 12 point font. However, for third parties submitting their application as a partnership, they are allowed an additional four pages (for a total of 22 pages).

Reviewers will not review more than 18 pages for all the factors combined (unless the applicant is submitting as a partnership, in which case the page limit is 22).

The rating factors will ask the applicant to submit an organization chart and contact information, resumes, references, budget table and project completion schedule. This information should be added to the back of the responses to the rating factors as an appendix, and will not count towards the page limit. Please label the appendix using the following format and order:

• Appendix A: Organization Chart & Contact list

• Appendix B: Resumes

• Appendix C: References

• Appendix D: Budget Table

• Appendix E: Project Completion Schedule

B. Submitting Required Documents

All applicants applying to this RFQ must submit additional documents in addition to their responses to the rating factors below. These documents are: Application form SF-424, SF424sup, and SF-LL.

SF-424: Applicants applying as a single third party must complete this form. If an applicant is applying as a partnership, only the lead organization in the partnership is required to submit a SF-424 on behalf of the partnership.

Note that as part of the SF-424 form, and SF424sup form, the applicant will be required to provide their DUNS number. This DUNS number allows the federal government to track federal funding allocations. Please see Appendix C on instructions on how to secure a DUNS number if the applicant does not have one.

SF424sup: This document must be submitted by all third parties, regardless of whether they are applying as a single third party or a partnership.

SF-LL: This document is a lobbying disclosure form. This form is only required to be submitted by all third parties that conduct lobbying activities, regardless of whether they are applying as a single third party or a partnership.

For a helpful checklist, please see Appendix B.

C. Rating Factors

Rating Factor 1: Demonstrated Capacity of the Applicant and Relevant Organizational Staff (70 Points)

A. Previous Experience (40 Points)

1. General question (10 points): HUD is interested in the applicant's demonstrated history of direct public service and if relevant, its placement of public servants within the last 24 months. This must include a brief explanation about the objectives, goals and work of the applicant, and any awards that the applicant has received for public service. In addition, please describe any previous work, partnerships or collaborations with the federal or local government. If applying as a partnership, please provide a brief explanation for all third parties in the partnership that answers the latter questions.

2. The following questions relate only to Activity 1 (15 points). The applicant must explain its recent experience (within the last 24 months) where the applicant has managed activities similar to the ones covered under Activity 1. In answering the questions below (2a-c), the applicant's explanation should include a discussion of (1) the tasks undertaken, (2) actual results achieved, and (3) the specific resources applied to each task.

a. The applicant must explain its demonstrated experience in working on projects that have required it to connect with other local networks, organizations and/or key individuals in cities. In addition, the applicant must explain how it has built and maintained these relationships with local networks, organizations and/or key individuals, and how integral this collaboration was to its project.

b. The applicant must explain its demonstrated experience in attracting and recruiting talented individuals from around the country, including those from top universities or other career networks. The applicant, if relevant, should also provide an explanation of how they have mentored recruits.

c. If relevant, the applicant must explain its demonstrated experience in managing staff and/or program participants who work remotely.

3. The following questions relate only to Activity 2 (15 points). The applicant must explain its recent experience (within the last 24 months) where the applicant has managed activities similar to the ones covered under Activity 2. In answering the questions below (3a-b), the applicant's explanation should include a discussion of (1) the tasks undertaken, (2) actual results achieved, and (3) the specific resources applied to each task.

a. The applicant must explain its demonstrated experience in developing training curriculum for a public service and/or community or economic development program and how it has trained past participants. In addition, please include the length of training; the purpose of the training; the types of training past participants underwent (e.g., classroom instruction, site visits, workshops); and how it has recruited instructors and speakers to enhance the trainings.

b. The applicant must explain its demonstrated experience in partnering with other organizations, individuals are institutions to develop training curriculum for a fellowship program.

B. Management Structure (30 Points)

Organization Structure (26 points): HUD is interested in understanding the applicant's capacity to support the fellowship program in relation to ALL activities described in the RFQ.

1. The applicant must provide a general description of its management structure that explains how the organization will work together to ensure that the activities will be achieved successfully and how decisions will be made.

Please include an organization chart that identifies all key management positions and the names and positions of staff managing ALL key tasks described in the RFQ that are associated with both activities described in the RFQ. The applicant must also describe the key staff and their specific roles and responsibilities for the management of its proposed activities. Please also include resumes and a brief description of the prior experience for each key staff member.

If applying as a partnership, the applicant must answer the latter questions in the context of the partnership.

In addition to your organization chart, please include on a separate page a contact list of all third parties associated with this application. This must include the name of ONE key point of contact for the third party and include the address, city, state, zip code and phone number. If you are applying as a partnership, indicate which third party is the lead organization, and include ONE key point of contact and the respective address, city, state, zip code and phone number for each third party in the partnership, including the lead organization.

References (4 points). The applicant must include two references for recent work similar to the programs covered under the RFQ that has been undertaken by the applicant. If a partnership, the applicant must include two references for each third party in the partnership.

References must be from an organization, individual or institution that the applicant has worked with in the past 24 months applicable to the activity(s) that are described in this RFQ. References must be submitted in the form of a letter (one-page maximum) that includes a contact name, address, phone number and email address so that HUD may verify the information. The letter must speak to the relevant work experience of the applicant.

Rating Factor 2: Soundness of Approach (100 Points)

A. Proposed Activities (90 Points)

1. (5 points) The applicant must provide a general description of the activities it proposes to undertake for this fellowship program, including any additional activities it plans to undertake that will not be funded by the fellowship program but that the applicant might pursue because it may benefit the program.

In addition to the latter explanation, for Activity 1 (50 points), please address specifically in the proposal the following:

a. HUD recognizes that key to the success of the fellowship program will be determined by the close collaboration and communication between the national and local third parties. HUD recently has announced the pilot cities and would like the applicant to describe in detail:

i. How it plans to identify and select the most appropriate types of local organizations or individuals that it will work with to meet the objectives of Activity 1.

ii. How it anticipates each local organization or individual will communicate and work with the applicant to ensure the success of the fellowship program.

iii. What it thinks the key responsibilities and roles would be of the local organizations to accomplish the tasks associated with Activity 1.

b. HUD is interested in understanding how the applicant plans to market the program to secure the most qualified fellows. The applicant must include a discussion of how it plans to reach out to various places to recruit qualified fellows.

c. HUD is interested in learning the applicant's process for selecting fellows. While HUD recognizes that some of the fellow selection will be based on the needs of the pilot cities, HUD is looking for an explanation of the applicant's proposed selection process and any proposed criteria for fellows it may have in addition to the fellows criteria in Appendix B. Information in this process may include additional consultants and experts the applicant may hire, how it plans to conduct the interviews, and what additional criteria—given its understanding of fellowship programs—it may look for in fellows.

d. HUD would like to know how the applicant plans to identify any additional training opportunities (including site visits, workshops, and conferences) for fellows in the program.

e. HUD recognizes that mentoring fellows will be critical to the success of the program. Therefore, HUD expects the applicant to have a close mentor relationship with each fellow. The applicant must explain how it plans to mentor fellows and how it plans to help them resolve or work through their challenges as they arise in the program.

f. The applicant should provide HUD with a list and description of possible metrics it thinks would be valuable to collect for evaluation.

For Activity 2 (30 points), the applicant must address specifically in the proposal the following:

The applicant must provide a brief explanation of how it plans to develop training curriculum, how it plans to train fellows, and the frequency of which fellows will be trained. The applicant must include a discussion on how its proposed training curriculum would advance and enhance leadership skills among fellows, and how its training curriculum would prepare fellows for the fellowship program.

a. In addition to answering the latter question, the applicant must include other organizations it may use to help develop the curriculum, if necessary. If the applicant does not plan to include other organizations, it must explain why it thinks the curriculum that it has developed meets the needs of the fellowship program. The applicant also must list the types of training it plans to have fellows undertake (e.g., workshops, classroom training, etc.) including potential instructors or speakers, and how it plans to recruit qualified instructors and speakers. The applicant must describe the curriculum and the type of materials it plans to develop to train fellows and if applicable, describe any certifications it might offer to fellows.

b. The applicant must explain how it will develop the orientation training for fellows and include a description of the types of materials it plans to develop to train fellows.

c. The applicant must describe the types of site visits it plans to undertake to enhance the learning experience of fellows. The applicant should also explain how it plans to identify, develop and/or implement any additional trainings it thinks would be helpful in the fellowship program.

2. Activity 1 & Activity 2 (5 points). As referenced in III.A.1.a Leveraging, HUD recognizes that the full cost of the program will likely exceed the $2.5 million granted under the RFQ. Nevertheless, HUD is requesting that the applicant indicate how it will use the $2.5 million by providing a budget table showing how funds will be budgeted for each activity for years 1 and 2, and indicate on the chart, who in the organization will be responsible for managing the funds.

a. In addition, as referenced in section III.A.1 Payment of Fellows, HUD recognizes that the cost of the fellow stipends under the fellowship program is unknown as HUD is in the process of negotiating the stipend share between what the pilot cities and the fellowship program will each pay. For your budget, please include a category for fellow stipends for years 1 and 2. HUD anticipates that fellows will be paid $60,000 per year (for a total of $120,000 for years 1 and 2 for each fellow). Please assume that the program will pay 75 percent of this stipend for years 1 and 2 (this amounts to $45,000 for each year). Given your proposed budget, HUD wants to see the maximum number of fellows that could be funded with the $2.5 million grant.

B. Project Completion Schedule (5 Points)

1. For each activity, the applicant must provide a table with the project completion schedule that includes milestones for the 32 month period (see II.B. period of expenditure and II.C.3 reporting requirements).

C. Performance and Monitoring (5 Points)

1. HUD grantees must have a plan for monitoring and funds control plan for all program activities to ensure successful performance. This includes an internal audit function. An internal audit function will continually examine potentially risky areas of program and financial operations and management and provide regular and valuable feedback to program managers and to those who hold them accountable. This feedback will include identification of risky management practices and missing or ineffective internal controls, areas that are not in compliance with program requirements, and ineffective implementation of established policies. The end result is the establishment of corrective actions. For the activity(s) the applicant is applying for in this factor, the applicant must:

a. Describe your monitoring and funds control plan.

b. Describe how you will meet the internal audit requirement and how corrective actions will be implemented. Specifically identify the position(s) and agency responsible for internal audit.

Rating Factor 3: Leveraging of Other Funds (20 Points): HUD does not require the applicant to have matching funds to be awarded a grant from this RFQ. However, as referenced in III.A.1.a Leveraging, HUD expects that the applicant that is awarded the grant will secure additional funding support from other philanthropic organizations. In this rating factor, HUD would like to know the applicant's experience in securing philanthropic support and its ability to leverage existing funds.

1. In this factor, the applicant must describe its success in securing philanthropic support for projects similar or related to any or all of the activities the applicant is applying for in the RFQ.

2. The applicant must also describe its plans for reaching out to other philanthropic organizations or private institutions, and fundraising activities it plans to undertake if granted funds from the RFQ.

3. The applicant must indicate, where appropriate, if it currently has commitments of additional funds from other philanthropic organizations or private institutions and how those funds might be leveraged for this program.

IV. Award Administration Information

A. Award Notices

HUD will send written notifications to both successful and unsuccessful applicants. A notification sent to a successful applicant is not an authorization to begin performance. Upon notification that an applicant has been selected for award, HUD will request additional information to be submitted or may work with the applicant to amend information that was already submitted as part of the application.

B. Code of Conduct

After selection, but prior to award, applicants selected for funding will be required to provide HUD with their written Code of Conduct if they have not previously done so and it is not recorded on the HUD Web site at: http://www.hud.gov/offices/adm/grants/codeofconduct/cconduct.cfm.

C. Administrative and National Policy Requirements

After selection for funding but prior to award, applicants must submit financial and administrative information to comply with applicable requirements. These requirements are found in 24 CFR part 84 for all organizations, except states and local governments whose requirements are found in 24 CFR part 85. Cost principles requirements are found at OMB Circular A-122 for nonprofit organizations, OMB Circular A-21 for institutions of higher education, OMB Circular A-87 for states and local governments, and at 48 CFR 31.2 for commercial organizations. Applicants must submit a certification from an Independent Public Accountant or the cognizant government auditor, stating that the applicant's financial management system meets prescribed standards for fund control and accountability.

D. Federal Funding Accountability and Transparency Act of 2006

Applicants selected for funding will be required to report first sub-grant award and executive compensation information, where both their initial award is $25,000 or greater, as required by the Federal Funding Accountability and Transparency Act of 2006 (Pub. L. 109-282). The prime grant awardees will have until the end of the month plus one additional month after an award or sub-grant is obligated to fulfill the reporting requirement. The Federal Funding Accountability and Transparency Act (FFATA) of 2006 calls for the establishment of a publicly available web site to disclose the use of Federal finance assistance.

a. The Act requires the reporting of the following data for first-tier sub-grants of $25,000 or more:

(1) Name of entity receiving award;

(2) Amount of award;

(3) Funding agency;

(4) NAICS code for contracts/CFDA program number for grants;

(5) Program source;

(6) Award title descriptive of the purpose of the funding action;

(7) Location of the entity (including congressional district);

(8) Place of performance (including congressional district);

(9) Unique identifier of the entity and its parent; and

(10) Total compensation and names of top five executives (same thresholds as for primes).

b. The Transparency Act also requires the reporting of the Total Compensation and Names of the top five executives in either the prime awardee or a sub-awardee's organization if:

(1) More than 80% of annual gross revenues are from the Federal government, and those revenues are greater than $25M annually; and

(2) Compensation information is not already available through reporting to the SEC.

The statute exempts from reporting any sub-awards less than $25,000 made to individuals or to an entity whose annual expenditures are less than $300,000. OMB has published Interim Final Guidance to agencies regarding the FFATA subrecipient reporting requirements in the Federal Register on September 14, 2010 (75FR55663.)

E. Equal Employment Opportunity

All contracts under the fellowship program shall contain a provision requiring compliance with E.O. 11246, “Equal Employment Opportunity,” as amended by E.O. 11375, “Amending Executive Order 11246 Relating to Equal Employment Opportunity,” and as supplemented by regulations at 41 CFR part 60, “Office of Federal Contract Compliance Programs, Equal Employment Opportunity, Department of Labor.”

F. Additional Information

This issuance does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(c)(1), this issuance is categorically excluded from environmental review under the National Environmental Policy Act of 1969 (42 U.S.C. 4321).”

Dated: August 17, 2011.
Raphael W. Bostic,
Assistant Secretary for Policy Development and Research.

Appendix A: Fellowship Placement Pilot Program—Fellows Criteria for Selection

The fellows selection of the fellowship program will be open nationally to all qualified applicants. The Administrator will help develop the application and selection criteria for new recruits. The Administrator will conduct the competition for fellows.

At minimum, core perquisites must require that candidates:

• Have 3-5 years of work experience, where candidates with graduate degrees are preferred;

• Make a 2-year commitment;

• Have prior experience in the area of community development, economic development, community or other public service, or related field;

• Be a problem solver, critical thinker and potential manager;

• Have a proven track record of entrepreneurship or social entrepreneurship, ability to work through bureaucracies to get things done; and

• Demonstrate a commitment and passion to public service.

In addition, applicants will be asked to rank order their location choices, and to articulate their interest in, or connection to any particular location(s). The selected Administrator may explore giving preference to candidates that already live in a pilot city.

The selection process for fellows may involve multiple rounds of review that will culminate to several in-person group interviews. After the in-person interviews, a selection committee will make the final selection decisions. Fellows that best match the needs of the pilot cities based on their existing area of knowledge and skill set will be selected for the program. To ensure fellows are properly matched to the needs of each pilot city, the selection process will include a review of the results from the city assessments that were initially conducted for each pilot city before selection.

Appendix B—Checklist of Documents to Submit
Document | Check box
1. Application SF424 (submitted by single third party or the lead third party in a partnership)
2. SF424sup (submitted by all third parties, regardless of whether they are applying as a partnership or a single third party)
3. SF-LL (submitted by all third parties that conduct lobby activities, regardless of whether they are applying as a partnership or a single third party)
4. Responses to Rating Factors:
• For single applicants the page limit is 18
• For partnerships, the page limit is 22
5. Appendixes:
Appendix A: Organization Chart & Contact List for key points of contact
Appendix B: Resumes
Appendix C: References
Appendix D: Budget Table
Appendix E: Project Completion Schedule

Appendix C: Instructions on How To Secure a DUNS Number

The SF424 and SF424 sup forms will require you to specify a DUNS number that will allow the Federal government to track how Federal grant money is allocated.

All applicants applying to administer the Fellowship Placement Pilot Program are required to get a DUNS number. For the SF-424 form, if an applicant is applying as a partnership, only the lead third party's DUNS number should be listed.

A DUNS number identifies your organization, and it is very easy to secure one.

Below are the brief instructions on how to secure a DUNS number. To view these instructions online, you can also visit: http://www.grants.gov/applicants/org_step1.jsp

Has my organization identified its Data Universal Number System (DUNS)?

Ask the grant administrator, chief financial officer, or authorizing official of your organization to identify your DUNS number.

If your organization does not know its DUNS number or needs to register for one, visit Dun & Bradstreet Web site: Register or search for a DUNS number: http://fedgov.dnb.com/webform/displayHomePage.do [EXIT Disclaimer]

Purpose of This Step

The federal government has adopted the use of DUNS numbers to track how federal grant money is allocated. DUNS numbers identify your organization.

How long should it take?

If requested over the phone, DUNS is provided immediately. Webform requests take 1 to 2 business days.

What is a DUNS number and why do I need obtain one?

The Data Universal Number System (DUNS) number is a unique nine-character number that identifies your organization. It is a tool of the federal government to track how federal money is distributed. Most large organizations, libraries, colleges and research universities already have DUNS numbers. Ask your grant administrator or chief financial officer to provide your organization's DUNS number.

List of Information you will need to obtain a DUNS number (if your organization does not already have one):

• Name of organization

• Organization address

• Name of the CEO/organization owner

• Legal structure of the organization (corporation, partnership, proprietorship)

• Year the organization started

• Primary type of business

• Total number of employees (full and part time)

If your organization does not have a DUNS number, use the Dun & Bradstreet (D&B) online registration to receive one free of charge.

If your organization is located outside the United States, you can request and register for a DUNS number also online via web registration.

Note: Obtaining a DUNS number places your organization on D&B's marketing list that is sold to other companies. You can request not to be added to this list during your application.

[FR Doc. 2011-21439 Filed 8-22-11; 8:45 am]

BILLING CODE 4210-67-P